DEPARTMENT OF ENERGY

President's Council of Advisors on Science and Technology

AGENCY: Office of Science, Department of Energy.

ACTION: Notice of open teleconference.

SUMMARY: This notice sets forth the schedule and summary agenda for a conference call of the President's Council of Advisors on Science and Technology (PCAST), and describes the functions of the Council. The Federal Advisory Committee Act requires that public notice of these meetings be announced in the Federal Register.

DATES: June 6, 2016, 4:00 p.m. to 4:30 p.m.

ADDRESSES: To receive the call-in information, attendees should register for the conference call on the PCAST Web site, http://www.whitehouse.gov/ostp/pcast no later than 12:00 p.m. ET on Thursday, June 2, 2016.

FOR FURTHER INFORMATION CONTACT: Information regarding the meeting agenda, time, location, and how to register for the meeting is available on the PCAST Web site at: http://whitehouse.gov/ostp/pcast. Questions about the meeting should be directed to Ms. Jennifer Michael at Jennifer_L_Michael@ostp.eop.gov, (202) 456-4444.

SUPPLEMENTARY INFORMATION: The President's Council of Advisors on Science and Technology (PCAST) is an advisory group of the nation's leading scientists and engineers, appointed by the President to augment the science and technology advice available to him from inside the White House, cabinet departments, and other Federal agencies. See the Executive Order at http://www.whitehouse.gov/ostp/pcast. PCAST is consulted about and provides analyses and recommendations concerning a wide range of issues where understandings from the domains of science, technology, and innovation may bear on the policy choices before the President. PCAST is co-chaired by Dr. John P. Holdren, Assistant to the President for Science and Technology, and Director, Office of Science and Technology Policy, Executive Office of the President, The White House; and Dr. Eric S. Lander, President, Broad Institute of the Massachusetts Institute of Technology and Harvard.

Type of Meeting: Open.

Proposed Schedule and Agenda: The President's Council of Advisors on Science and Technology (PCAST) is scheduled to hold a public conference call on June 6, 2016 from 4:00 p.m. to 4:30 p.m.

Open Portion of Meeting: During this open meeting, PCAST is scheduled to discuss its study on Forensic Science in Federal Criminal Courts: Ensuring Reliable Principles and Methods. Additional information and the agenda, including any changes that arise, will be posted at the PCAST Web site at: http://whitehouse.gov/ostp/pcast.

Public Comments: It is the policy of the PCAST to accept written public comments of any length, and to accommodate oral public comments whenever possible. The PCAST expects that public statements presented at its meetings will not be repetitive of previously submitted oral or written statements.

The public comment period for this meeting will take place on June 6, 2016 at a time specified in the meeting agenda posted on the PCAST Web site at http://whitehouse.gov/ostp/pcast. This public comment period is designed only for substantive commentary on PCAST's work, not for business marketing purposes.

Oral Comments: To be considered for the public speaker list at the meeting, interested parties should register to speak at http://whitehouse.gov/ostp/pcast, no later than 12:00 p.m. Eastern Time on June 2, 2016. Phone or email reservations will not be accepted. To accommodate as many speakers as possible, the time for public comments will be limited to two (2) minutes per person, with a total public comment period of up to 10 minutes. If more speakers register than there is space available on the agenda, PCAST will randomly select speakers from among those who applied. Those not selected to present oral comments may always file written comments with the committee.

Written Comments: Although written comments are accepted continuously, written comments should be submitted to PCAST no later than 12:00 p.m. Eastern Time on June 2, 2016 so that the comments may be made available to the PCAST members prior to this meeting for their consideration. Information regarding how to submit comments and documents to PCAST is available at http://whitehouse.gov/ostp/pcast in the section entitled “Connect with PCAST.”

Please note that because PCAST operates under the provisions of FACA, all public comments and/or presentations will be treated as public documents and will be made available for public inspection, including being posted on the PCAST Web site.

Meeting Accommodations: Individuals requiring special accommodation to access this public meeting should contact Ms. Jennifer Michael at least ten business days prior to the meeting so that appropriate arrangements can be made.

Issued in Washington, DC, on May 16, 2016.
LaTanya R. Butler,
Deputy Committee Management Officer.

[FR Doc. 2016-11959 Filed 5-20-16; 8:45 am]

BILLING CODE 6450-01-P